DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project—“Talk. They Hear You.” Campaign Evaluation: National Survey—NEW

SAMHSA's Center for Substance Abuse Prevention (CSAP) is requesting approval from the Office of Management and Budget (OMB) for a new data collection, “Talk. They Hear You.” Campaign Evaluation: National Survey. This collection includes two instruments:

1. Screener

2. Survey Tool

The national survey is part of a larger effort to evaluate the impact of the “Talk. They Hear You.” campaign. These evaluations will help determine the extent to which the campaign has been successful in educating parents and caregivers nationwide about effective methods for reducing underage drinking (UAD). The campaign is designed to educate and empower parents and caregivers to talk with children about alcohol. To prevent initiation of underage drinking, the campaign targets parents and caregivers of children aged 9-15, with the specific aims of:

1. Increasing parent or caregiver awareness of and receptivity to campaign messages (knowledge);

2. Increasing parent or caregiver awareness of underage drinking prevalence (knowledge);

3. Increasing parent or caregiver disapproval of underage drinking (attitudes);

4. Increasing parent or caregiver knowledge, skills, and confidence in how to talk to their children about, and prevent, UAD (attitudes); and

5. Increasing parent or caregiver actions to prevent underage drinking by talking to their children about UAD (behaviors).

The national survey will target parents in the base year in 2018, and then annually in the 4 option years following that, making this a repeat cross-sectional research study. The survey will be based on the survey originally approved for use in the 2016 impact evaluation, which was designed to quantify parent and caregiver awareness of the campaign and retention of campaign messages, and to determine whether parents and caregivers have used the campaign materials in talking to their children. SAMHSA will seek to conduct this research nationwide through online surveys. The survey will be accessible via an access link that will be disseminated to respondents via email. Respondents will be recruited to participate in this online survey from a Qualtrics© panel (which hosts more than 6 million active panelists), as was done for the survey pilot conducted in 2016. Researchers will conduct a quota-based sampling approach to maximize the representativeness of the sample and will be oversampling the Hispanic population. This will allow us to achieve a representative sample of parents of middle-school-aged children in the United States across notable socioeconomic and demographic variables of interest to the study. This approach will also allow us to oversample minority populations, such as Hispanics, as necessary in order to achieve the diversity needed to yield a comprehensive set of opinions, experiences, and feedback of the “Talk. They Hear You.” campaign materials and products.

Table 1—Estimated Burden for Respondents
Category of respondent | Number of respondents | Responses per respondent | Total number of responses | Hours per response | Total hour burden | Wage rate | Total hour cost
Individuals (Screened) | 5,555 | 1 | 5,555 | .05 hours | 277.75 | $23 | $6,388.25
Individuals (Complete survey) | 5,000 | 1 | 5,000 | .17 hours | 850 | 23 | 19,550.00
Totals | 10,555 |  | 10,555 |  | 1,127.75 | 23 | 25,938.25

Send comments to Summer King, SAMHSA Reports Clearance Officer, Room 15E57-B, 5600 Fishers Lane, Rockville, MD 20857 OR email a copy at summer.king@samhsa.hhs.gov. Written comments should be received by June 12, 2018.

Summer King,
Statistician.

[FR Doc. 2018-07439 Filed 4-12-18; 8:45 am]

BILLING CODE 4162-20-P